DEPARTMENT OF TRANSPORTATION

Surface Transportation Board

[Docket No. AB 1087X]

Grenada Railway LLC—Abandonment Exemption—in Grenada, Montgomery, Carroll, Holmes, Yazoo and Madison Counties, MS

On September 20, 2011, Grenada Railway LLC (GRYR) filed with the Surface Transportation Board (Board) a petition under 49 U.S.C. 10502 for exemption from the provisions of 49 U.S.C. 10903 to abandon the southern segment of its line of railroad between milepost 622.5 near Grenada, Miss., and milepost 703.8 near Canton, Miss., a distance of 81.3 miles, in Grenada, Montgomery, Carroll, Holmes, Yazoo and Madison Counties, Miss.¹ The line traverses United States Postal Service Zip Codes 38960, 38926, 38925, 38967, 39176, 39192, 39063, 39079, 39146, and 39179, and includes the stations of Tie Plant, Elliott, Duck Hill, Eskridge, Winona, Vaiden, West, Durant, Goodman, Pickens, and Vaughan.

¹ GRYR acquired this line from the Illinois Central Railroad Company in Grenada Railway, LLC—Acquisition and Operation Exemption—Illinois Central Railroad Company and Waterloo Railway Company, Docket No. FD 35247 (STB served May 29, 2009).

According to GRYR, it believes that the line does not contain Federally granted rights-of-way. Any documentation in GRYR's possession regarding the line will be made available promptly to those requesting it.

The interest of railroad employees will be protected by the conditions set forth in Oregon Short Line Railroad—Abandonment Portion Goshen Branch Between Firth & Ammon, In Bingham & Bonneville Counties, Idaho, 360 I.C.C. 91 (1979).

By issuance of this notice, the Board is instituting an exemption proceeding pursuant to 49 U.S.C. 10502(b). A final decision will be issued by January 6, 2012.

Any offer of financial assistance (OFA) under 49 CFR 1152.27(b)(2) will be due no later than 10 days after service of a decision granting the petition for exemption. Each OFA must be accompanied by a $1,500 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than October 27, 2011. Each trail request must be accompanied by a $250 filing fee. See 49 CFR 1002.2(f)(27).

All filings in response to this notice must refer to Docket No. AB 1087X, and must be sent to: (1) Surface Transportation Board, 395 E Street, SW., Washington, DC 20423-0001; and (2) Fritz R. Kahn, Fritz R. Kahn, P.C., 1920 N Street, NW. (8th Floor), Washington, DC 20036. Replies to the petition are due on or before October 27, 2011.

Persons seeking further information concerning abandonment procedures may contact the Board's Office of Public Assistance, Governmental Affairs and Compliance at (202) 245-0238 or refer to the full abandonment or discontinuance regulations at 49 CFR 1152. Questions concerning environmental issues may be directed to the Board's Office of Environmental Analysis (OEA) at (202) 245-0305. Assistance for the hearing impaired is available through the Federal Information Relay Service (FIRS) at 1-800-877-8339.

An environmental assessment (EA) (or environmental impact statement (EIS), if necessary) prepared by OEA will be served upon all parties of record and upon any agencies or other persons who commented during its preparation. Other interested persons may contact OEA to obtain a copy of the EA (or EIS). EAs in these abandonment proceedings normally will be made available within 60 days of the filing of the petition. The deadline for submission of comments on the EA generally will be within 30 days of its service.

Board decisions and notices are available on our Web site at http://www.stb.dot.gov.

Decided: October 3, 2011.
By the Board.
Rachel D. Campbell,
Director, Office of Proceedings.
Jeffrey Herzig,
Clearance Clerk.

[FR Doc. 2011-25970 Filed 10-6-11; 8:45 am]

BILLING CODE 4915-01-P